DEPARTMENT OF HOUSING AND URBAN DEVELOPMENT

[Docket No. FR-4971-N-54]

Notice of Submission of Proposed Information Collection To OMB; Consumer Perceptions of Factory-Built Housing

AGENCY: Office of the Chief Information Officer, HUD.

ACTION: Notice.

SUMMARY: The proposed information collection requirement described below has been submitted to the Office of Management and Budget (OMB) for review, as required by the Paperwork Reduction Act. The Department is soliciting public comments on the subject proposal.

This request is for the clearance of a survey instrument that would gauge current consumer perceptions of factory-built housing technologies with as primary focus on panelized and modular housing. One of the strategic goals outlined in HUD's Partnership for Advancing Technology in Housing is the increased focus on attitudes, behaviors, and motives surrounding innovation. Measuring consumer perceptions of factory-build housing provides such insight, and will also provide otherwise unavailable information essential to measuring the effectiveness of PATH's outreach and promotional campaigns.

DATES: Comments Due Date: November 25, 2005.

ADDRESSES: Interested persons are invited to submit comments regarding this proposal. Comments should refer to the proposal by name and/or OMB approval Number (2528—Pending) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; or Lillian Deitzer at Lillian_L_Deitzer@HUD.gov or telephone (202) 708-2374. This is not a toll-free number. Copies of available documents submitted to OMB may be obtained from Mr. Eddins or Ms Deitzer.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Consumer Perceptions of Factory-Built Housing.

OMB Approval Number: 2528—Pending.

Form Numbers: None.

Description of the Need for the Information and Its Proposed Use

This request is for the clearance of a survey instrument that would gauge current consumer perceptions of factory-built housing technologies with as primary focus on panelized and modular housing. One of the strategic goals outlined in HUD's Partnership for Advancing Technology in Housing is the increased focus on attitudes, behaviors, and motives surrounding innovation. Measuring consumer perceptions of factory-build housing provides such insight, and will also provide otherwise unavailable information essential to measuring the effectiveness of PATH's outreach and promotional campaigns.

Frequency of Submission: Once Only.

| Number of respondents | Annual responses | × | Hours per response | = | Burden hours
Reporting Burden | 2,500 | 1 |  | 0.276 |  | 690

Total Estimated Burden Hours: 690.

Status: New Collection.

Authority: Section 3507 of the Paperwork Reduction Act of 1995, 44 U.S.C. 35, as amended.

Dated: October 19, 2005.
Wayne Eddins,
Departmental Paperwork Reduction Act Officer, Office of the Chief Information Officer.

[FR Doc. E5-5920 Filed 10-25-05; 8:45 am]

BILLING CODE 4210-27-P